DEPARTMENT OF THE TREASURY

48 CFR Parts 1001, 1002, 1016, 1019, 1022, 1028, 1032, 1034, 1042, and 1052

Department of the Treasury Acquisition Regulation; Technical Amendments

AGENCY: Office of the Procurement Executive, Treasury.

ACTION: Notice of proposed rulemaking.

SUMMARY: The Department of the Treasury is makes amendments to the Department of the Treasury Acquisition Regulation (DTAR) in order to make editorial changes. These editorial changes are in response to either updates made to the Federal Acquisition Regulations (FAR), Treasury bureau organizational restructuring, and other internal updates that have occurred since the 2013 edition.

DATES: Comment due date: January 22, 2015.

ADDRESSES: Treasury invites comments on the topics addressed in this proposed rule. Comments may be submitted to Treasury by any of the following methods: by submitting electronic comments through the federal government e-rulemaking portal, www.regulations.gov, by email to thomas.olinn@treasury.gov; or by sending paper comments to Department of the Treasury, Office of the Procurement Executive, Attn: Thomas O'Linn, 655 15th Street NW., Metropolitan Square, Room 6B415, Washington, DC 20220.

In general, Treasury will post all comments to www.regulations.gov without change, including any business or personal information provided, such as names, addresses, email addresses, or telephone numbers. Treasury will also make such comments available for public inspection and copying in Treasury's Library, Room 1428, Department of the Treasury, 1500 Pennsylvania Avenue NW., Washington, DC 20220, on official business days between the hours of 10:00 a.m. and 5:00 p.m. Eastern Time. You can make an appointment to inspect comments by telephoning (202) 622-0990. All comments, including attachments and other supporting materials received are part of the public record and subject to public disclosure. You should submit only information that you wish to make publicly available.

FOR FURTHER INFORMATION CONTACT: Thomas O'Linn, Procurement Analyst, Office of the Procurement Executive, at (202) 622-2092.

SUPPLEMENTARY INFORMATION: The DTAR, which supplement the Federal Acquisition Regulation, are codified at 48 CFR Chapter 10. In order to update certain elements in 48 CFR part 10 this document makes editorial changes to the DTAR, which include updating Treasury bureau names and updating titles and dates, and other nonsubstantive revisions. This proposed rule would also remove the Earned Value Management System provisions codified at section 1052.234-72. There is no longer a need for Treasury-specific coverage in this area.

Regulatory Planning and Review

This rule is not a significant regulatory action as defined in section 3(f) of Executive Order 12866. Therefore a regulatory assessment is not required.

Regulatory Flexibility Act

The Regulatory Flexibility Act (5 U.S.C. chapter 6) generally requires agencies to conduct an initial regulatory flexibility analysis and a final regulatory flexibility analysis of any rule subject to notice and comment rulemaking requirements, unless the agency certifies that the rule will not have a significant economic impact on a substantial number of small entities.

It is hereby certified that this proposed rule would not have a significant economic impact on a substantial number of small entities. The rule is intended to make editorial changes to the DTAR.

Paperwork Reduction Act

The information collections contained in this proposed rule have been previously approved by the Office of Management and Budget under the Paperwork Reduction Act (44 U.S.C. 3501, et seq.) and assigned OMB control numbers 1505-0081; 1505-0080; and 1505-0107. Under the Paperwork Reduction Act, an agency may not conduct or sponsor and a person is not required to respond to a collection of information unless it displays a valid OMB control number.

List of Subjects in 48 CFR Chapter 10

Government procurement.

Accordingly, the Department of the Treasury proposes to amend 48 CFR chapter 10 as follows:

PART 1001—DEPARTMENT OF THE TREASURY ACQUISITION REGULATION (DTAR) SYSTEM

1. The authority citation for part 1001 is revised to read as follows:

Authority: 41 U.S.C. 1707.

1001.670 [Amended]

2. Amend section 1001.670 by removing from the paragraph the word “Technical” from Contracting Officer Technical Representative and the letter “T” in COTR in all instances used.

PART 1002—DEFINITIONS OF WORDS AND TERMS

3. The authority citation for part 1002 is revised to read as follows:

Authority: 41 U.S.C. 1707.

4. Section 1002.101 is revised to read as follows:

1002.101 Definitions.

Bureau means any one of the following Treasury organizations:

(1) Alcohol and Tobacco Tax and Trade Bureau (TTB);

(2) Bureau of Engraving & Printing (BEP);

(3) Bureau of the Fiscal Service (formerly Bureau of Public Debt and Financial Management Service);

(4) Departmental Offices (DO);

(5) Financial Crimes Enforcement Network (FinCEN);

(6) Office of the Inspector General (OIG);

(7) Internal Revenue Service (IRS);

(8) Office of the Comptroller of the Currency (OCC);

(9) Special Inspector General for the Troubled Asset Relief Program (SIGTARP);

(10) Treasury Inspector General for Tax Administration (TIGTA); or

(11) United States Mint.

1002.70 [Amended]

5. Amend section 1002.70 by—

a. Removing “COTR Contracting Technical Officer's Representative” and adding “COR Contracting Officer's Representative” in its place.

b. Removing “IPP Internet Payment Platform” and adding “IPP Invoice Processing Platform” in its place.

PART 1016—TYPES OF CONTRACTS

6. The authority citation for part 1016 is revised to read as follows:

Authority: 41 U.S.C. 1707.

1016.505 [Amended]

7. Section 1016.505 is revised to read as follows:

1016.505 Ordering.

(b)(8) The HCA shall designate a task and delivery order ombudsman in accordance with bureau procedures and provide a copy of the designation to the agency task and delivery order ombudsman. Bureau task and delivery order ombudsmen shall review complaints from contractors concerning task and delivery orders placed by the contracting activity and ensure they are afforded a fair opportunity to be considered, consistent with the procedures in the contract. In the absence of a designation, the Bureau advocate for competition will serve in that capacity.

PART 1019—SMALL BUSINESS PROGRAMS

8. The authority citation for part 1019 is revised to read as follows:

Authority: 41 U.S.C. 1707.

9. Amend section 1019.202-70 by—

a. Removing from paragraph (d)(1) the text “List of Parties Excluded from Federal Procurement and Nonprocurement Programs” and adding “System for Award Management Exclusions” in its place;

b. Adding paragraph (n)(2)(vi).

c. Removing from paragraph (p)(1) the text “$500,000 ($1,000,000 for construction)” and adding “$650,000 ($1,500,000 for construction)” in its place; and

d. Revising paragraph (p)(2).

The addition and revision read as follows:

1019.202-70 The Treasury Mentor Protégé Program

* * * * *

(n) * * *

(2) * * *

(vi) Protégé firms shall submit a post completion report 24 months after exiting the Mentor-Protégé Program. The post completion report will assist the Department of the Treasury in assessing the progress of Protégé firms upon completion of the program.

* * * * *

(p) * * *

(2) Insert the clause at 1052.219-75, Mentor Requirements and Evaluation, in solicitations and contracts where the contractor is a participant in the Treasury Mentor-Protégé Program.

1019.8 [Amended]

10. Revise the heading for subpart 1019.8 to read as follows:

Subpart 1019.8—Contracting With the Small Business Administration (The 8(a) Program)

1019.811-3 [Amended]

11. Amend section 1019.811-3 by—

a. Removing from paragraph (d)(3) the citation “1019.8” and adding “FAR 19.8” in its place; and

b. Removing from paragraph (f) the citation “1019.8” and adding “FAR 19.8” in its place.

PART 1022—MINORITY AND WOMEN INCLUSION

12. The authority citation for part 1022 continues to read as follows:

Authority: 12 U.S.C. 5452.

PART 1028—BONDS AND INSURANCE

13. The authority citation for part 1028 is revised to read as follows:

Authority: 41 U.S.C. 1707.

1028.307-1 [Amended]

14. In section 1028.307-1, remove reserved paragraph (b).

15. Revise section 1028.310-70 to read as follows:

1028.310-70 Agency contract clause for work on a Government installation.

(a) Insert a clause substantially similar to 1052.228-70, Insurance requirements, in all solicitations and contracts that contain the clause at FAR 52.228-5.

16. Revise section 1028.311-2 to read as follows:

1028.311-2 Agency solicitation provisions and contract clauses.

Insert a clause substantially similar to 1052.228-70, Insurance requirements, in all solicitations and contracts that contain the clause at FAR 52.228-7.

PART 1032—CONTRACT FINANCING

17. The authority citation for part 1032 is revised to read as follows:

Authority: 41 U.S.C. 1707.

1032.7002 [Amended]

18. Amend section 1032.7002 by—

a. Removing from paragraph (a) introductory text the words “awarded after October 1, 2012,” and

b. Removing from paragraph (c) the words “Treasury Internet Payment Platform” and adding the words “Treasury Invoice Processing Platform” in their place.

19. Section 1032.7003 is revised to read as follows:

1032.7003 Contract clause.

Except as provided in 1032.7002(a), use the clause at 1052.232-7003, Electronic Submission of Payment Requests, in all solicitations and contracts.

PART 1034—MAJOR SYSTEM ACQUISITION

20. The authority citation for part 1034 is revised to read as follows:

Authority: 41 U.S.C. 1707.

21. In section 1034.001, add introductory text and remove the definition of “Core Earned Value Management”.

The addition reads as follows:

1034.001 Definitions.

As used in this part—

* * * * *

Subpart 34.2 [Removed]

22. Remove subpart 34.2.

PART 1042—CONTRACT ADMINISTRATION AND AUDIT SERVICES

23. The authority citation for part 1042 is revised to read as follows:

Authority: 41 U.S.C. 1707.

1042.1500 [Removed and Reserved]

24. Remove and reserve section 1042.1500.

PART 1052—SOLICITATION PROVISIONS AND CONTRACT CLAUSES

25. The authority citation for part 1052 is revised to read as follows:

Authority: 41 U.S.C. 1707.

26. In section 1052.201-70, revise the introductory text and paragraphs (a), (b), (c) introductory text, (c)(6), (d), and (e) to read as follows:

1052.201-70 Contracting Officer's Representative (COR) appointment and authority.

As prescribed in 1001.670-6, insert the following clause:

CONTRACTING OFFICER'S REPRESENTATIVE (COR) APPOINTMENT AND AUTHORITY (JAN 2015)

(a) The COR is __ [insert name, address and telephone number].

(b) Performance of work under this contract is subject to the technical direction of the COR identified above, or a representative designated in writing. The term “technical direction” includes, without limitation, direction to the contractor that directs or redirects the labor effort, shifts the work between work areas or locations, and/or fills in details and otherwise serves to ensure that tasks outlined in the work statement are accomplished satisfactorily.

(c) Technical direction must be within the scope of the contract specification(s)/work statement. The COR does not have authority to issue technical direction that:

* * * * *

(6) Directs, supervises or otherwise controls the actions of the Contractor's employees.

(d) Technical direction may be oral or in writing. The COR must confirm oral direction in writing within five workdays, with a copy to the Contracting Officer.

(e) The Contractor shall proceed promptly with performance resulting from the technical direction issued by the COR. If, in the opinion of the Contractor, any direction of the COR or the designated representative falls within the limitations of (c) above, the Contractor shall immediately notify the Contracting Officer no later than the beginning of the next Government work day.

* * * * *

27. Revise section 1052.210-70 to read as follows:

1052.210-70 Contractor publicity.

As prescribed in 1009.204-70, insert the following clause:

CONTRACTOR PUBLICITY (JAN 2015)

The Contractor, or any entity or representative acting on behalf of the Contractor, shall not refer to the supplies or services furnished pursuant to the provisions of this contract in any news release or commercial advertising, or in connection with any news release or commercial advertising, without first obtaining explicit written consent to do so from the Contracting Officer. Should any reference to such supplies or services appear in any news release or commercial advertising issued by or on behalf of the Contractor without the required consent, the Government shall consider institution of all remedies available under applicable law, including 31 U.S.C. 333, and this contract. Further, any violation of this clause may be considered as part of the evaluation of past performance.

(End of clause)

28. Revise the text of section 1052.228-70 to read as follows:

1052.228-70 Insurance requirements.

As prescribed in 1028.310-70 and 1028.311-2, insert a clause substantially as follows: The contracting officer may require additional kinds of insurance (e.g., aircraft public and passenger liability, vessel liability) or higher limits of coverage.

INSURANCE (JAN 2015)

In accordance with FAR clause 52.228-5, entitled “Insurance—Work on a Government Installation” [or FAR clause 52.228-7 entitled, “Insurance—Liability to Third Persons”], insurance of the following kinds and minimum amounts shall be provided and maintained during the period of performance of this contract:

(a) Worker's compensation and employer's liability. The Contractor shall, as a minimum, meet the requirements specified at FAR 28.307-2(a).

(b) General liability. The Contractor shall, at a minimum, meet the requirements specified at FAR 28.307-2(b).

(c) Automobile liability. The Contractor shall, at a minimum, meet the requirements specified at FAR 28.307-2(c).

(End of clause)

29. Revise section 1052.232-7003 to read as follows:

1052.232-7003 Electronic submission of payment requests.

As prescribed in 1032.7003, use the following clause:

ELECTRONIC SUBMISSION OF PAYMENT REQUESTS (JAN 2015)

(a) Definitions. As used in this clause—

(1) “Payment request” means a bill, voucher, invoice, or request for contract financing payment with associated supporting documentation. The payment request must comply with the requirements identified in FAR 32.905(b), “Content of Invoices” and the applicable Payment clause included in this contract.

(b) Except as provided in paragraph (c) of this clause, the Contractor shall submit payment requests electronically using the Invoice Processing Platform (IPP). Information regarding IPP, including IPP Customer Support contact information, is available at www.ipp.gov or any successor site.

(c) The Contractor may submit payment requests using other than IPP only when the Contracting Officer authorizes alternate procedures in writing in accordance with Treasury procedures.

(d) If alternate payment procedures are authorized, the Contractor shall include a copy of the Contracting Officer's written authorization with each payment request.

(End of clause)

1052.234-2 [Removed]

30. Remove section 1052.234-2.

1052.234-3 [Removed]

31. Remove section 1052.234-3.

1052.234-4 [Removed]

32. Remove section 1052.234-4.

1052.234-70 [Removed]

33. Remove section 1052.234-70.

1052.234-71 [Removed]

34. Remove section 1052.234-71.

1052.234-72 [Removed]

35. Remove section 1052.234-72.

Iris B. Cooper,
Senior Procurement Executive, Office of the Procurement Executive.

[FR Doc. 2014-29767 Filed 12-22-14; 8:45 am]

BILLING CODE 4810-25-P